FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 27, 2015.

A. Federal Reserve Bank of Minneapolis (Jacquelyn K. Brunmeier, Assistant Vice President) 90 Hennepin Avenue, Minneapolis, Minnesota 55480-0291:

1. Marcia Wegleitner, Tower, Minnesota, individually and as trustee, and Marcia Wegleitner, as trustee of The Dennis Frandsen 2014 Children's Trust and the Dennis Frandsen 2014 Grandchildren's Trust; Gregory and Julie Frandsen; Nick Frandsen; Holly Frandsen; and Paige Frandsen, all of North Oaks, Minnesota, as a the group acting in concert, to retain voting shares of Frandsen Financial Corporation, Arden Hills, Minnesota, and thereby indirectly retain voting shares of Frandsen Bank & Trust, Lonsdale, Minnesota.

Board of Governors of the Federal Reserve System, May 7, 2015.
Michael J. Lewandowski,
Associate Secretary of the Board.

[FR Doc. 2015-11400 Filed 5-11-15; 8:45 am]

BILLING CODE 6210-01-P